NUCLEAR REGULATORY COMMISSION

725th Meeting of the Advisory Committee on Reactor Safeguards (ACRS)

In accordance with the purposes of Sections 29 and 182b of the Atomic Energy Act (42 U.S.C. 2039, 2232(b)), the Advisory Committee on Reactor Safeguards (ACRS) will hold meetings on May 6-9, 2025. The Committee will be conducting meetings that will include some Members being physically present at the headquarters of the U.S. Nuclear Regulatory Commission (NRC) while other Members participate remotely. Interested members of the public are encouraged to participate remotely in any open sessions via Microsoft (MS) Teams or via phone at 301-576-2978, passcode 257672354#. A more detailed agenda, including the MSTeams link, may be found at the ACRS public website at https://www.nrc.gov/reading-rm/doc-collections/acrs/agenda/index.html. If you would like the MSTeams link forwarded to you, please contact the Designated Federal Officer (DFO) as follows: Quynh.Nguyen@nrc.gov, or Lawrence.Burkhart@nrc.gov.

Tuesday, May 6, 2025

1:00 p.m.-1:35 p.m.: Opening Remarks by the ACRS Chairman (Open)—The ACRS Chair will make opening remarks regarding the conduct of the meeting.

1:35 p.m.-3:30 p.m.: NuScale Standard Design Approval Application (SDAA) Topics and Letter Report (Open)—The Committee will have presentations and discussions with applicant representatives and NRC staff regarding the subject topic and proceed to preparation of reports.

3:30 p.m.-5:30 p.m.: Committee Deliberation on NuScale SDAA Topics and Letter Report (Open)—The Committee will deliberate regarding the subject topic and proceed to preparation of reports.

Wednesday, May 7, 2025

8:30 a.m.-10:30 a.m.: TerraPower Natrium Topical Report on Source Term Methodology (Open/Closed)—The Committee will have presentations and discussions with applicant representatives and NRC staff regarding the subject topic. [Note: Pursuant to 5 U.S.C 552b(c)(4), a portion of this session may be closed in order to discuss and protect information designated as proprietary.]

10:30 a.m.-1:00 p.m.: Committee Deliberation on TerraPower Natrium Topical Report on Source Term Methodology (Open/Closed)—The Committee will deliberate regarding the subject topic and proceed to preparation of report. [Note: Pursuant to 5 U.S.C 552b(c)(4), a portion of this session may be closed in order to discuss and protect information designated as proprietary.]

1:00 p.m.-6:00 p.m.: Seabrook Nuclear Station Alkali Silica Reaction Topic/Report Preparation/Preparation of Reports (Open/Closed)—The Committee will have discussions and deliberate with NRC staff regarding the subject topic and proceed to preparation of reports. [Note: Pursuant to 5 U.S.C 552b(c)(4), a portion of this session may be closed in order to discuss and protect information designated as proprietary.]

Thursday, May 8, 2025

8:30 a.m.-5:00 p.m.: Planning and Procedures Session/Future ACRS Activities/Reconciliation of ACRS Comments and Recommendations/Preparation of Reports (Open/Closed)—The Committee will hear discussion of the recommendations of the Planning and Procedures Subcommittee regarding items proposed for consideration by the Full Committee during future ACRS meetings, and/or proceed to preparation of reports. [Note: Pursuant to 5 U.S.C. 552b(c)(2), a portion of this meeting may be closed to discuss organizational and personnel matters that relate solely to internal personnel rules and practices of the ACRS.]

[Note: Pursuant to 5 U.S.C 552b(c)(4), a portion of this session may be closed in order to discuss and protect information designated as proprietary.]

Friday, May 9, 2025

8:30 a.m.-5:00 p.m.: Preparation of Reports (Open/Closed)—The Committee will hear discussion of the recommendations of the Planning and Procedures Subcommittee and/or proceed to preparation of reports. [Note: Pursuant to 5 U.S.C. 552b(c)(2), a portion of this meeting may be closed to discuss organizational and personnel matters that relate solely to internal personnel rules and practices of the ACRS.]

[Note: Pursuant to 5 U.S.C 552b(c)(4), a portion of this session may be closed in order to discuss and protect information designated as proprietary.]

Procedures for the conduct of and participation in ACRS meetings were published in the Federal Register on June 13, 2019 (84 FR 27662). In accordance with those procedures, oral or written views may be presented by members of the public, including representatives of the nuclear industry. Persons desiring to make oral statements should notify Quynh Nguyen, Cognizant ACRS Staff and the DFO (Telephone: 301-415-5844, Email: Quynh.Nguyen@nrc.gov), 5 days before the meeting, if possible, so that appropriate arrangements can be made to allow necessary time during the meeting for such statements. In view of the possibility that the schedule for ACRS meetings may be adjusted by the Chair as necessary to facilitate the conduct of the meeting, persons planning to attend should check with the cognizant ACRS staff if such rescheduling would result in major inconvenience.

An electronic copy of each presentation should be emailed to the cognizant ACRS staff at least three days before the meeting.

In accordance with Subsection 10(d) of Public Law 92-463 and 5 U.S.C. 552b(c), certain portions of this meeting may be closed, as specifically noted above. Use of still, motion picture, and television cameras during the meeting may be limited to selected portions of the meeting as determined by the Chair. Electronic recordings will be permitted only during the open portions of the meeting.

ACRS meeting agendas, meeting transcripts, and letter reports are available through the NRC Public Document Room (PDR) at pdr.resource@nrc.gov, or by calling the PDR at 1-800-397-4209 or 301-415-4737, between 8 a.m. and 4 p.m. eastern daylight time (EDT), Monday through Friday, except Federal holidays, or from the Publicly Available Records System component of NRC's Agencywide Documents Access and Management System, which is accessible from the NRC website at https://www.nrc.gov/reading-rm/adams.html or https://www.nrc.gov/reading-rm/doc-collections/#ACRS/

Dated: April 8, 2025.
For the Nuclear Regulatory Commission
Russell E. Chazell,
Federal Advisory Committee Management Officer, Office of the Secretary.

[FR Doc. 2025-06217 Filed 4-10-25; 8:45 am]

BILLING CODE 7590-01-P